DEPARTMENT OF ENERGY

Idaho Operation Office; Notice of Availability of Solicitation for Awards of Financial Assistance

AGENCY: Idaho Operations Office, DOE.

ACTION: Metal casting industries of the future.

SUMMARY: The U.S. Department of Energy (DOE), Idaho Operations Office (ID) is seeking applications for cost shared research and development of technologies which will enhance economic competitiveness, reduce energy consumption and reduce environmental impacts of the metal casting industry. The research is to address research priorities identified by the metal casting industry in the Metal Casting Industry Technology Roadmap.

DATES: The deadline for optional pre-applications is November 17, 2000, at 3 p.m. MST. The deadline for receipt of full applications is March 16, 2001, at 3 p.m. MST.

ADDRESSES: Applications should be submitted to: Beth Dahl, Contract Specialist, Procurement Services Division, U.S. Department of Energy, Idaho Operations Office, 850 Energy Drive, Mail Stop 1221, Idaho Falls, Idaho 83401-1563.

FOR FURTHER INFORMATION CONTACT: Beth Dahl, Contract Specialist at dahlee@id.doe.gov, or Brad Bauer, Contracting Officer at bauerbg@id.doe.gov.

SUPPLEMENTARY INFORMATION: The Metal Casting Industry Technology Roadmap can be found at http://www.oit.doe.gov/metalcast/roadmap.shtml. Approximately $1,000,000 to $1,500,000 of funding will be available to fund the first year of selected research efforts. DOE anticipates making 5 to 10 cooperative agreement awards each with duration of three years or less. A minimum of 50% non-federal cost share is required for research and development projects over the life of the project. First year cost share can be as low as 30% if subsequent years have sufficient cost share so that non-federal share totals at least 50%. Collaborations between industry, university, and National Laboratory participants are encouraged. The issuance date of Solicitation Number DE-PS07-01ID14003 is on or about October 26, 2000. The solicitation is available in its full text via the DOE's Industry Interactive Procurement System (IPS) or the Internet at the following address: http://www.id.doe.gov/doeid/PSD/proc-div.html. The statutory authority for the program is the Federal Non-Nuclear Energy Research and Development Act of 1974 (P.L. 93-577). The Catalog of Federal Domestic Assistance (CFDA) Number for this program is 81.086.

Issued in Idaho Falls on October 26, 2000.
R.J. Hoyles,
Director, Procurement Services Division.

[FR Doc. 00-28158 Filed 11-1-00; 8:45 am]

BILLING CODE 6450-01-M